POSTAL SERVICE

International Product Change—Global Reseller Expedited Package Contracts 2

AGENCY: Postal Service™.

ACTION: Notice.

SUMMARY: The Postal Service hereby gives notice of its filing a request with the Postal Regulatory Commission to add Global Reseller Expedited Package Contracts 2 to the Competitive Products List.

DATES: Effective Date: June 4, 2013.

FOR FURTHER INFORMATION CONTACT: Patricia Fortin, (202) 268-8785.

SUPPLEMENTARY INFORMATION: The United States Postal Service® hereby gives notice that, pursuant to 39 U.S.C. 3642 and 39 CFR 3020.30, on May 24, 2013, it filed with the Postal Regulatory Commission, a request to add Global Reseller Expedited Package Contracts 2 (GREP Contracts 2) to the Competitive Products List, and Notice of Filing a Global Reseller Expedited Package 2 Negotiated Service Agreement and Application for Non-Public Treatment of Materials Filed Under Seal. The documents are available at http://www.prc.gov, Docket Nos. MC2013-51 and CP2013-64.

Stanley F. Mires,
Attorney, Legal Policy & Legislative Advice.

[FR Doc. 2013-13129 Filed 6-3-13; 8:45 am]

BILLING CODE 7710-12-P